DEPARTMENT OF THE INTERIOR

Bureau of Indian Affairs

[145A2100DD.AADD001000.A0E501010.999900]

Renewal of Agency Information Collection for No Child Left Behind Act Implementation

AGENCY: Bureau of Indian Affairs, Interior.

ACTION: Notice of request for comments.

SUMMARY: In compliance with the Paperwork Reduction Act of 1995, the Bureau of Indian Education (BIE) is seeking comments on the renewal of Office of Management and Budget (OMB) approval for the collection of information for the No Child Left Behind Act authorized by OMB Control Number 1076-0163. This information collection expires March 31, 2014.

DATES: Submit comments on or before February 21, 2014.

ADDRESSES: You may submit comments on the information collection to Jeffrey Hamley, Bureau of Indian Education, Division of Performance and Accountability, 1011 Indian School Road, NW., Suite 332, Albuquerque, NM 87104; facsimile: (505) 563-5281; email: Jeffrey.Hamley@bie.edu.

FOR FURTHER INFORMATION CONTACT: Jeffrey Hamley, telephone: (505) 563-5255.

SUPPLEMENTARY INFORMATION:

I. Abstract

The BIE is seeking renewal of the approval for the information collection conducted under 25 CFR parts 30, 37, 39, 42, 44, and 47 under OMB Control Number 1076-0163. This information collection is necessary to implement Public Law 107-110, No Child Left Behind Act of 2001 (NCLB). The NCLB requires all schools, including Bureau-funded and operated schools, to ensure that all children have a fair, equal, and significant opportunity to obtain a high-quality education and reach, at a minimum, proficiency on challenging academic achievement standards and assessments. The BIE has promulgated several regulations implementing the NCLB Act. This OMB Control Number addresses the following regulations.

• 25 CFR part 30—Adequately Yearly Progress (AYP). Tribes/school boards may request an alternative to the established AYP definition or standards. Tribes/school boards may provide evidence that BIE made an error in identifying the school for improvement. Achievement, attendance and graduation rates are collected from schools to facilitate yearly calculation of AYP.

• 25 CFR part 37—Geographic Boundaries. This part establishes procedures for confirming, establishing, or revising attendance areas for each Bureau-funded and operated school. Tribes and school boards must submit certain information to BIE to propose a change in geographic boundaries.

• 25 CFR part 39—Indian School Equalization Program (ISEP). This part provides for the uniform direct funding of Bureau-operated and tribally operated day schools, boarding schools, and dormitories. Auditors of schools, to ensure accountability in student counts and student transportation, must certify that they meet certain qualifications and have conducted a conflict of interest check. Schools must submit information to BIE to apply for funds in the event of an emergency or unforeseen contingency.

• 25 CFR part 42—Student Rights. The purpose of this part is to govern student rights and due process procedures in disciplinary proceedings in all Bureau-funded and operated schools. This part requires all the school to provide notice of disciplinary charges, provide a copy of the hearing of record, and provide a student handbook.

• 25 CFR part 44—Grants under the Tribally Controlled Schools Act. The purpose of this part is to establish who is eligible for a grant and requires tribes to submit information to BIE to retrocede a program to the Secretary.

• 25 CFR part 47—Uniform Direct Funding and Support for Bureau-operated Schools. This part contains the requirements for developing local educational financial plans in order to receive direct funding from the Bureau. This part requires school supervisors to submit quarterly reports to school boards; submit a notice of appeal to the BIE for a decision where agencies disagree over expenditures; make certain certifications in financial plans; and send the plan and documentation to the BIE or submit a notice of appeal.

There are no forms associated with collection. No third party notification or public disclosure burden is associated with this collection.

II. Request for Comments

The BIE requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual need not respond to, a collection of information unless it displays a valid OMB Control Number.

It is our policy to make all comments available to the public for review at the location listed in the ADDRESSES section. Before including your address, phone number, email address or other personal identifying information in your comment, you should be aware that your entire comment—including your personal identifying information—may be made publicly available at any time. While you can ask us in your comment to withhold your personal identifying information from public review, we cannot guarantee that we will be able to do so.

III. Data

OMB Control Number: 1076-0163.

Title: No Child Left Behind.

Brief Description of Collection: Pursuant to NCLB implementing regulations, Bureau-funded and operated schools must provide certain information if they wish to use alternative AYP standards, change their geographic boundaries, obtain contingency funds, retrocede a program, or obtain direct funding from the Bureau through submission of a local educational financial plan. For these items, a response is requires to obtain a benefit (continued supplementary program funding). In addition, all Bureau-funded and operated schools must provide students with written notice of disciplinary charges, a copy of the hearing record, and student handbook. These items are mandatory information collections.

Type of Review: Extension without change of currently approved collection.

Respondents: Bureau-funded and operated schools.

Number of Respondents: 183.

Number of Responses: 14,554.

Frequency of Response: Quarterly, annually, or on occasion, depending on the item.

Estimated Time per Response: Ranges from 1 hour to 480 hours.

Estimated Total Annual Hour Burden: 37,355 hours.

Estimated Total Annual Non-Hour Dollar Cost: $0.

Dated: December 13, 2013.
John Ashley,
Acting Assistant Director for Information Resources.

[FR Doc. 2013-30583 Filed 12-20-13; 8:45 am]

BILLING CODE 4310-6W-P